DEPARTMENT OF ENERGY

Federal Energy Regulatory Commission

[P-432-113]

Progress Energy Carolinas, Inc.; Notice of Application for Temporary Amendment of License and Soliciting Comments, Motions to Intervene, and Protests

August 31, 2007.

Take notice that the following hydroelectric application has been filed with the Commission and is available for public inspection:

a. Type of Application: Request for temporary variance of reservoir elevation, dissolved oxygen and minimum flow release requirements.

b. Project No.: 432-113.

c. Date Filed: August 27, 2007.

d. Applicant: Progress Energy Carolinas, Inc.

e. Name of Project: Walters Hydroelectric Project.

f. Location: On the Pigeon River, in Haywood County, North Carolina, just upstream of the State of Tennessee.

g. Filed Pursuant to: Federal Power Act, 16 U.S.C. 791a-825r.

h. Applicant Contact: Larry Mann, Progress Energy Carolinas Inc., 179 Tillery Dam Road, Mount Gilead, NC 27306, (910) 439-5211 extension 1202.

i. FERC Contact: Andrea Claros, (202) 502-8171; e-mail: andrea.claros@ferc.gov.

j. Deadline for filing comments, motions to intervene and protests: October 1, 2007.

Please include the project number (P-432) on any comments or motions filed. All documents (original and eight copies) should be filed with: Kimberly D. Bose, Secretary, Federal Energy Regulatory Commission, 888 First Street NE., Washington, DC 20426.

Comments, protests, and interventions may be filed electronically via the Internet in lieu of paper, see 18 CFR 385.2001(a)(1)(iii) and the instructions on the Commission's web site under the “e-filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: Progress Energy Carolinas is requesting a temporary variance of the requirements for lake level, dissolved oxygen and minimum flow. Due to persistent drought conditions in the project area and the need to maintain a minimum reservoir elevation to prevent erosion of dioxin laden lake sediments, Progress Energy requests that it be allowed to reduce flow releases below the minimum flow requirement of 100 cubic feet per second if the Walters Lake reaches an elevation of 2234 feet, and to stop all releases from the powerhouse if Walters Lake reaches elevation 2232 feet. Only flows from Big Creek, the 12 mile bypassed reach of the Pigeon River, and other small tributaries will provide flow. Progress Energy proposes to resume minimum flow releases when Walters Lake is at and above an elevation of 2236 feet. The licensee proposes to limit complete shutdown of flow releases to periods not to exceed 7 days at elevation above 2232 feet. Progress Energy has consulted with Tennessee Wildlife Resources Agency and the North Carolina Department of Environment and Natural Resources. These agencies concur with the request. On August 31, 2007, the Commission granted the licensee's requests, but reserved authority to require changes in project operation based upon comments received from this notice.

l. Location of the Application: The filing is available for inspection and reproduction at the Commission's Public Reference Room, located at 888 First Street, NE., Room 2A, Washington, DC 20426 or by calling (202) 502-8371, or by calling (202) 502-8371. This filing may also be viewed on the Commission's Web site at http://ferc.gov using the “eLibrary” link. Enter the docket number excluding the last three digits in the docket number field to access the document. You may also register online at http://www.ferc.gov/docsfiling/esubscription.asp to be notified via e-mail or new filings and issuances related to this or other pending projects. For assistance, call 1-866-208-3676 or email ferconlinesupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E7-17924 Filed 9-11-07; 8:45 am]

BILLING CODE 6717-01-P